DEPARTMENT OF THE INTERIOR

Bureau of Land Management

[223.LLAK941200.L1440000.ET0000; AA-95542]

Public Land Order No. 7922; Mendenhall Glacier Recreation Area; Alaska

AGENCY: Bureau of Land Management, Interior.

ACTION: Public Land Order.

SUMMARY: This Public Land Order (PLO) withdraws approximately 4,560 acres of National Forest System lands near Juneau, Alaska, from location and entry under the United States mining laws, and from leasing under the mineral leasing laws, for a 20-year period, subject to valid existing rights, to protect the recreational and natural resource values of the lands adjacent to the Mendenhall Glacier Recreation Area as the Mendenhall Glacier recedes.

DATES: This PLO takes effect on June 2, 2023.

FOR FURTHER INFORMATION CONTACT: Chelsea Kreiner, BLM Alaska State Office, 222 West Seventh Avenue, Mailstop 13, Anchorage, AK 99513-7504, (907) 271-4205, or ckreiner@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of the withdrawal established by this PLO is to maintain the natural setting and protect the recreational and natural resource values as the Mendenhall Glacier recedes and leaves additional lands unprotected adjacent to an existing withdrawal created in 1952 by PLO No. 829. The lands remain open to other uses at the discretion of the Authorized Officer.

Order

By virtue of the authority vested in the Secretary of the Interior by section 204(d) of the Federal Land Policy and Management Act of 1976, 43 U.S.C. 1714 (d), it is ordered as follows:

1. Subject to valid existing rights, the following described National Forest System land is hereby withdrawn from location and entry under the United States mining laws, and from leasing under the mineral leasing laws, and reserved for protection of the recreational and natural resource values of lands in the vicinity of the Mendenhall Glacier:

Copper River Meridian, Alaska

Tongass National Forest

T. 39 S, Rs. 65 and 66 E, more particularly described as follows:

Beginning at Corner No. 2, U.S. Survey No. 1536, Alaska.

Thence, along the record courses of PLO 829, N 18°30′ W, a distance of 160 chains; Thence, N 55°00′, a distance of 100 chains, to the Point of Beginning of the Mendenhall Glacier Withdrawal; Thence, N 26°00′ E, a distance of 110 chains; Thence, N 78°30′ E, a distance of 260 chains; Thence, S 8°30′ E, a distance of 133 chains; Thence, S 33°00′ W, a distance of 90 chains; Thence, S 77°00′ W, a distance of 101 ± chains, to the boundary of PLO 829; Thence, along said boundary on the following courses, N 20°00′ W, a distance of 24 ± chains; Thence, N 45°00′ W, a distance of 80 chains; Thence, West, a distance of 110 chains, to the Point of Beginning of the Mendenhall Glacier Withdrawal, containing 4,560 ± acres.

2. This withdrawal will expire 20 years from the effective date of this order, unless, as a result of a review conducted prior to the expiration date, pursuant to section 204(f) of the Federal Land Policy and Management Act of 1976, 43 U.S.C. 1714(f), the Secretary determines that the withdrawal shall be extended.

(Authority: 43 U.S.C. 1714.)

Shannon A. Estenoz,
Assistant Secretary for Fish and Wildlife and Parks.

[FR Doc. 2023-11783 Filed 6-1-23; 8:45 am]

BILLING CODE 3411-15-P